DEPARTMENT OF TRANSPORTATION

Federal Railroad Administration

[Docket No. FRA 2012-0006-N-8]

Proposed Agency Information Collection Activities; Comment Request

AGENCY: Federal Railroad Administration, Department of Transportation (DOT).

ACTION: Notice.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than October 5, 2012.

ADDRESSES: Submit written comments on any or all of the following proposed activities by mail to either: Ms. Janet Wylie, Office Planning and Administration, RPD-3, Federal Railroad Administration, 1200 New Jersey Ave. SE., Mail Stop 20, Washington, DC 20590, or Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB control number 2130-0584. Alternatively, comments may be transmitted via facsimile to (202) 493-6170, or via email to Ms. Wylie at janet.wylie@dot.gov, or to Ms. Toone at kim.toone@dot.gov. Please refer to the assigned OMB control number in any correspondence submitted. FRA will summarize comments received in response to this notice in a subsequent notice and include them in its information collection submission to OMB for approval.

FOR FURTHER INFORMATION CONTACT: Ms. Janet Wylie, Office of Planning and Administration, RPD-3, Federal Railroad Administration, 1200 New Jersey Ave. SE., Mail Stop 20 Washington, DC 20590 (telephone: (202) 493-6353) or Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, § 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the information collection activities that FRA will submit for clearance by OMB as required under the PRA:

Title: Solicitation of Applications and Notice of Funds Availability for High-Speed Rail Corridors and Intercity Passenger Rail Service-Capital Assistance and Planning Grants Program.

OMB Control Number: 2130-0584.

Status: Regular Review.

Type of Request: Revision of a currently approved collection.

Abstract: After 60 years and more than 1.8 trillion investment dollars, the United States has developed the world's most advanced highway and aviation systems. During this time, the nation has made a relatively modest investment in passenger rail systems. As congestion on highways and in the air continues to grow and environmental costs mount, there is a growing need for diverse transportation options.

In 2009, President Obama announced a new vision to address the nation's transportation challenges. He called for a collaborative effort among the Federal government, States, railroads, and other stakeholders to help transform America's transportation system. The President's vision seeks to create an efficient high-speed passenger rail system to connect inner-city communities across America.

Developing a comprehensive high-speed intercity passenger rail network requires a long-term commitment at both the Federal and State levels. The President has jump-started the process with $2 billion provided by the Department of Transportation (DOT) Appropriations Act of 2010 (FY10 Appropriations), $8 billion provided by the American Recovery and Reinvestment Act (ARRA), $90 million provided by the DOT Appropriations Act of 2009 (FY09 Appropriations), and approximately $1.8 million remaining funds from the Transportation, Housing and Urban Development, and Related Agencies Appropriations Act, 2008 (FY08 Appropriations). Additional or future funding for high-speed intercity passenger rail may come from a variety of sources, including annual appropriations, one-time appropriations, redistribution of previously allocated or obligated funds, or distribution of residual funding from previous sources.

The Federal Railroad Administration (FRA) allocates funds to applicants with plans or programs that align with the President's key strategic transportation goals: creating safe and efficient transportation choices, building a foundation for economic competitiveness, promoting energy efficiency and environmental quality, and supporting interconnected livable communities. Grants are being administered for the following types of projects:

• Service Development Programs—Aimed at new high-speed rail corridor services or substantial upgrades to existing corridor services. Grants are intended to fund a set of inter-related projects that constitute a phase (or geographic section) of a long-range corridor plan.

• Individual Projects—Aimed at discrete capital projects that will result in service benefits or other tangible improvements on a corridor. These projects include completion of preliminary engineering (PE), National Environmental Policy Act (NEPA) documentation, final design (FD), and construction, which can include equipment procurements to provide improved service and modernized fleets throughout the country

• Planning Projects—Aimed at helping to establish a pipeline of future construction projects and corridor development programs by completing Service Development Plans and service-level environmental analysis for corridors that are at an earlier stage of the development process, as well as State Rail Plans.

As the President outlined in his March 20, 2009 memorandum, “Ensuring Responsible Spending of Recovery Act Funds,” implementing agencies are to “develop transparent, merit-based selection criteria that will guide their available discretion in committing, obligating, or expending funds under the Recovery Act.” In order to achieve this goal, FRA created an application process that contains clear selection criteria and evaluation procedures.

The Application Process

In essence, the application process is grounded on three key principles: (1) promoting collaboration and shared responsibility among the Federal Government and States, groups of States within corridor regions, and governments, railroads and other private entities; (2) managing, rather than eliminating, risk through program management structure, controls and procedures that permit prudent but effective investments; and (3) ensuring early success while building a sustainable program to meet near-term economic recovery goals while developing public consensus for a long-term program. FRA has issued interim program guidance as well as detailed instructions to clearly explain the application process.

The applications include the standard items, such as the SF 424, all ARRA-relevant forms, and other necessary and relevant technical documents that are project-specific and voluntary.

In order to determine eligibility for funds, FRA must solicit applications and collect information from parties interested in obtaining and utilizing these funds for eligible projects.

Following allocation of funds to applicants, FRA must collect information from recipients in the form of various required reports in order to effectively monitor and track the progress of all funded projects. This process consists of:

• Tracking project activities and progress against the approved milestones in the Statement of Work through quarterly submission of the FRA Quarterly Progress Report.

• Comparing the rate of a project's actual expenditures to the planned amounts in the approved project budget through the quarterly submission of the Federal Financial Report (SF-425).

• Tracking cumulative funds and job creation through the quarterly submission of the ARRA 1512(c) Report for ARRA recipients.

• Capturing the cumulative activities and achievements of the project, with respect to objectives and milestones, through the one-time submission of the Final Performance Report.

This collection of information is necessary in order to comply with the funding agreements outlined in the Notice of Grant Agreement and, for ARRA recipients, satisfy legal obligations identified in Section 1501(c).

Form Number(s): FRA F 6180.132, FRA F 6180.133, FRA F 6180.134, FRA F 6180.135, FRA F 6180.138, FRA F 6180.139, SF-425.

Affected Public: States and local governments, government sponsored authorities and corporations, railroads.

Reporting Burden
Burden time per response | Total No. of response | Total burden hours
32 hours—Service Development Programs | 80—Applications | 2,560
32 hours—PE/NEPA Projects | 122—Applications | 3,904
32 hours—FD/Construction Projects | 211—Applications | 6,752
32 hours—Planning Projects | 70—Applications | 2,240
32 hours—Multi-State Planning Projects | 4—Applications | 128
2—Financial Report (SF-425) | 150—Grants | 1,200
1—Quarterly Progress Report | 150—Grants | 600
20—Final Performance Report | 150—Grants | 3,000

Total Estimated Responses: 937.

Total Estimated Annual Burden: 20,384 hours.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on August 1, 2012.
Michael Logue,
Associate Administrator for Administration, Federal Railroad Administration.

[FR Doc. 2012-19177 Filed 8-3-12; 8:45 am]

BILLING CODE 4910-06-P